SMALL BUSINESS ADMINISTRATION

[Disaster Declaration #10927 and #10928]

Oklahoma Disaster Number OK-00012

AGENCY: U.S. Small Business Administration.

ACTION: Amendment 6.

SUMMARY: This is an amendment of the Presidential declaration of a major disaster for the State of OKLAHOMA (FEMA-1712-DR), dated 07/07/2007.

Incident: Severe Storms, Flooding, and Tornadoes.

Incident Period: 06/10/2007 through 07/25/2007.

DATES: Effective Date: 09/06/2007.

Physical Loan Application Deadline Date: 10/05/2007.

EIDL Loan Application Deadline Date: 04/07/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of OKLAHOMA, dated 07/07/2007 is hereby amended to include the following areas as adversely affected by the disaster:

Primary Counties:

Atoka, Caddo, Coal, Creek, Delaware, Garfield, Garvin, Kay, Kingfisher, Lincoln, Marshall, Mayes, Muskogee, Noble, Okfuskee, Okmulgee, Pushmataha, Washita, Woods

Contiguous Counties:

Oklahoma: Adair, Alfalfa, Cherokee, Grant, Harper, Haskell, Latimer, Le Flore, Love, Mccurtain, Mcintosh, Pittsburg, Sequoyah, Woodward

Arkansas: Benton

Kansas: Barber, Comanche, Cowley, Sumner

All other information in the original declaration remains unchanged.

(Catalog of Federal Domestic Assistance Numbers 59002 and 59008)

James E. Rivera,
Acting Associate Administrator for Disaster Assistance.

[FR Doc. E7-18137 Filed 9-13-07; 8:45 am]

BILLING CODE 8025-01-P